ENVIRONMENTAL PROTECTION AGENCY

[FRL-9162-9]

Proposed CERCLA Section 122(h) Cost Recovery Settlement for the H.M. Quackenbush, Inc. Superfund Site, Herkimer, Herkimer County, NY

AGENCY: Environmental Protection Agency.

ACTION: Notice; request for public comment.

SUMMARY: In accordance with Section 122(i) of the Comprehensive Environmental Response, Compensation, and Liability Act of 1980, as amended (“CERCLA”), 42 U.S.C. 9622(i), notice is hereby given by the U.S. Environmental Protection Agency (“EPA”), Region II, of a proposed cost recovery settlement agreement pursuant to Section 122(h) of CERCLA, 42 U.S.C. 9622(h), regarding the H.M. Quackenbush, Inc. Superfund Site (“Site”) in Herkimer, Herkimer County, New York. The proposed settlement requires Frederick H. Hagar (“Settling Party”), CEO, Chairman and majority shareholder of H.M. Quackenbush, Inc., to pay EPA, in nine annual installments, $225,000.00, plus interest, for EPA's past response costs incurred at the Site. The Settling Party also agrees to pay $75,000.00 pursuant to a settlement with the Village of Herkimer into an interest-bearing escrow account for Site-related restoration purposes. If the escrow funds are not utilized by Herkimer within 5 years of the effective date of the Settlement Agreement, the escrow funds, plus accrued interest, shall be paid into the EPA Hazardous Substance Superfund. The settlement includes a covenant by EPA not to sue or to take administrative action against the Settling Party pursuant to Section 107(a) of CERCLA, 42 U.S.C. 9607(a), with regard to certain past response costs related the Site. For thirty (30) days following the date of publication of this notice, EPA will receive written comments relating to the settlement. EPA will consider all comments received and may modify or withdraw its consent to the settlement if comments received disclose facts or considerations that indicate that the proposed settlement is inappropriate, improper or inadequate. EPA's response to any comments received will be available for public inspection at EPA Region II, 290 Broadway, New York, New York 10007-1866.

DATES: Comments must be submitted on or before July 16, 2010.

ADDRESSES: The proposed settlement is available for public inspection at EPA Region II offices at 290 Broadway, New York, New York 10007-1866. Comments should reference the H.M. Quackenbush, Inc. Superfund Site, Herkimer, Herkimer County, New York, Index No. CERCLA-02-2010-2007. To request a copy of the proposed settlement agreement, please contact the EPA employee identified below.

FOR FURTHER INFORMATION CONTACT: Brian Carr, Assistant Regional Counsel, New York/Caribbean Superfund Branch, Office of Regional Counsel, U.S. Environmental Protection Agency, 290 Broadway—17th Floor, New York, New York 10007-1866. E-mail: carr.brian@epa.gov Telephone: 212-637-3170.

Dated: May 26, 2010.
John E. LaPadula,
Acting Director, Emergency and Remedial Response Division, Region 2.

[FR Doc. 2010-14511 Filed 6-15-10; 8:45 am]

BILLING CODE 6560-50-P